NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On August 29, 2000, the National Science Foundation published a notice in the Federal Register of permit applications received. Permits were issued on September 28, 2000 to the following applicants:

Wayne Z. Trivelpiece, Permit No. 2001-011;

John T. Lisle, Permit No. 2001-014;

Thomas W. Yelvington, Permit Nos. 2001-016 and 2001-021;

Jerry L. Mullins, Permit No. 2001-018.

Nadene G. Kennedy,
Permit Officer.

[FR Doc. 00-25493 Filed 10-4-00; 8:45 am]

BILLING CODE 7555-01-M